DEPARTMENT OF HOMELAND SECURITY

Coast Guard

[Docket No. USCG-2014-0067]

Imposition of Conditions of Entry for Certain Vessels Arriving to the United States From Nigeria

AGENCY: Coast Guard, DHS.

ACTION: Notice.

SUMMARY: The Coast Guard announces that it will impose conditions of entry on vessels arriving from the Federal Republic of Nigeria with the exception of vessels arriving from certain ports.

DATES: The policy announced in this notice will become effective June 26, 2014.

FOR FURTHER INFORMATION CONTACT: For information about this document call or email Michael Brown, International Port Security Evaluation Division, United States Coast Guard, telephone 202-372-1081. For information about viewing or submitting material to the docket, call Cheryl Collins, Program Manager, Docket Operations, telephone 202-366-9826, toll free 1-800-647-5527.

SUPPLEMENTARY INFORMATION:

Discussion

The authority for this notice is 5 U.S.C. 552(a), 46 U.S.C. 70110, and Department of Homeland Security Delegation No. 0170.1(II)(97)(f). As delegated, section 70110 authorizes the Coast Guard to impose conditions of entry on vessels arriving in U.S. waters from ports that the Coast Guard has not found to maintain effective anti-terrorism measures.

The Coast Guard does not find that ports in the Federal Republic of Nigeria maintain effective anti-terrorism measures with certain exceptions and that Nigeria's legal regime, designated authority oversight, access control and cargo control are all deficient. Our determination does not apply to the ports listed in Table 1 and the listed ports are excepted from the conditions of entry we are imposing.

Table 1—Ports To Which This Notice Does Not Apply
Port | IMO Port No.
APP Apapa Bulk Terminal | NGAPP-0009
APP AP Moller Terminal | NGAPP-0001
APP Greenview Terminal | NGAPP-0004
BON Bonny River Terminal | NGBON-0001
BON NLGN Bonny Terminal | NGBON-0002
BON SPDC Bonny Offshore Terminal | NG663-001
CBQ FSO YOHO (Exxon Mobile) | NG638-0001
CBQ Logistics Base | NGCBQ-0001
CBQ McIver Wharf | NGCBQ-0004
CBQ Port Terminal A | NGCBQ-0002
CBQ QIT BOP | NGOBO-0001
ESC Escra BOP | NGESC-0001
ESC LPG-FSO | NGESC-0003
FOR Forcados Offshore Terminal | NGFOR-0001
ONN FLT | NGONN-0005
ONN FOT | NGONN-0006
TIN Dantata MRS Terminal | NGTIN-0003
TIN FSL | NGTIN-0013
TIN P&CH Terminal C | NGTIN-0011
TIN PTML Terminal E | NGTIN-0010
TIN Snake Island Integrated Free Zone | NGTIN-0001
TIN TICT Terminal B | NGTIN-0009

In March 26, 2013, Nigeria was notified of this determination and given recommendations for improving antiterrorism measures and 90 days to respond. To date, we cannot confirm that Nigeria has corrected the identified deficiencies.

Accordingly, beginning June 26, 2014, the conditions of entry shown in Table 2 will apply to any vessel that visited a non-excepted Nigerian port in its last five port calls.

Table 2—Conditions of Entry for Vessels Visiting Nigerian Ports Not Listed in Table 1
No. | Each vessel must:
1 | Implement measures per the vessel's security plan equivalent to Security Level 2 while in a port in the Federal Republic of Nigeria. As defined in the ISPS Code and incorporated herein, “Security Level 2” refers to the “level for which appropriate additional protective security measures shall be maintained for a period of time as a result of heightened risk of a security incident.”
2 | Ensure that each access point to the vessel is guarded and that the guards have total visibility of the exterior (both landside and waterside) of the vessel while the vessel is in ports in the Federal Republic of Nigeria.
3 | Guards may be provided by the vessel's crew; however, additional crewmembers should be placed on the vessel if necessary to ensure that limits on maximum hours of work are not exceeded and/or minimum hours of rest are met, or provided by outside security forces approved by the vessel's master and Company Security Officer. As defined in the ISPS Code and incorporated herein, “Company Security Officer” refers to the “person designated by the Company for ensuring that a ship security assessment is carried out; that a ship security plan is developed, submitted for approval, and thereafter implemented and maintained and for liaison with port facility security officers and the ship security officer.”
4 | Attempt to execute a Declaration of Security while in a port in the Federal Republic of Nigeria;
5 | Log all security actions in the vessel's security records; and
6 | Report actions taken to the cognizant Coast Guard Captain of the Port (COTP) prior to arrival into U.S. waters.
7 | In addition, based on the findings of the Coast Guard boarding or examination, the vessel may be required to ensure that each access point to the vessel is guarded by armed, private security guards and that they have total visibility of the exterior (both landside and waterside) of the vessel while in U.S. ports. The number and position of the guards has to be acceptable to the cognizant COTP prior to the vessel's arrival.

The following countries currently do not maintain effective anti-terrorism measures and are therefore subject to conditions of entry: Cambodia, Cameroon, Comoros, Cote d'Ivoire, Cuba, Equatorial Guinea, Guinea-Bissau, Iran, Liberia, Madagascar, Nigeria, Sao Tome and Principe, Syria, Timor-Leste, Venezuela, and Yemen. This list is also available in a policy notice available at https://homeport.uscg.mil under the Maritime Security tab; International Port Security Program (ISPS Code); Port Security Advisory link.

Dated: June 2, 2014.
Vice Admiral Peter V. Neffenger, USCG,
Deputy Commandant for Operations.

[FR Doc. 2014-13741 Filed 6-11-14; 8:45 am]

BILLING CODE 9110-04-P